ENVIRONMENTAL PROTECTION AGENCY

[EPA-HQ-OPP-2002-0262; FRL-8852-4]

Endosulfan: Final Product Cancellation Order

AGENCY: Environmental Protection Agency (EPA).

ACTION: Notice.

SUMMARY: This notice announces EPA's order for the cancellations, voluntarily requested by the registrants and accepted by the Agency of pesticide products containing endosulfan, pursuant to section 6(f)(1) of the Federal Insecticide, Fungicide, and Rodenticide Act (FIFRA), as amended. This cancellation order follows an August 18, 2010, Federal Register Notice of Receipt of Requests from the endosulfan registrants to voluntarily cancel their product registrations. In the August 18, 2010, notice, EPA indicated that it would grant the request and issue a cancellation order unless the Agency received substantive comments within the 30-day comment period that would merit its further review of these requests, or unless the registrants withdrew their requests within this period. The Agency received three comments on the notice in support of the cancellations of all endosulfan products, which included signatures from over 53,000 individuals. Upon review of these comments, EPA determined that the Agency should, nonetheless, grant the registrants' cancellation requests. The registrants did not withdraw their requests. Accordingly, EPA hereby issues in this notice a cancellation order granting the requested cancellations. Any FIFRA section 3 or 24(c) registration, distribution, sale, or use of endosulfan products subject to this cancellation order is permitted only in accordance with the terms of this order.

DATES: The use deletions and cancellations in this order are effective as provided in Unit IV.

FOR FURTHER INFORMATION CONTACT: Melanie Biscoe, Pesticide Re-evaluation Division, Office of Pesticide Programs (7508P), Environmental Protection Agency, 1200 Pennsylvania Ave., NW., Washington, DC 20460-0001; telephone number: (703) 305-7106; e-mail address: biscoe.melanie@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2002-0262. Publicly available docket materials are available either in the electronic docket at http://www.regulations.gov, or, if only available in hard copy, at the Office of Pesticide Programs (OPP), Regulatory Public Docket in Rm. S-4400, One Potomac Yard (South Bldg.), 2777 S. Crystal Dr., Arlington, VA. The hours of operation of this Docket Facility are from 8:30 a.m. to 4 p.m., Monday through Friday, excluding legal holidays. The Docket Facility's telephone number is (703) 305-5805.

II. What action is the agency taking?

This notice announces the cancellations, as requested by registrants, of all endosulfan products registered under sections 3 and 24(c) of FIFRA. These registrations are listed in sequence by registration number in Table 1 of this unit. Note that the product names of several registration numbers were corrected in this table subsequent to the August 18, 2010, Federal Register Notice of Receipt of Requests (75 FR 51049) (FRL-8841-5) from the endosulfan registrants to voluntarily cancel their product registrations. However the registration numbers listed in the August 18, 2010, Federal Register Notice were correct and did not need to be amended in this notice.

Table 1—Endosulfan Products Subject to This Cancellation Order
Registration No. | Product name | Chemical name
11678-5 | Thionex Endosulfan Technical | Endosulfan.
19713-9 | Drexel Endosulfan 2EC | Endosulfan.
19713-319 | Drexel Endosulfan Technical | Endosulfan.
19713-399 | Drexel Endosulfan 3EC | Endosulfan.
61483-65 | Endalfly Insecticide Cattle Ear Tag | Endosulfan.
66222-62 | Thionex 50W | Endosulfan.
66222-63 | Thionex 3EC | Endosulfan.
66222-64 | Thionex Technical | Endosulfan.
AZ030004 | Thionex 3EC | Endosulfan.
AZ980004 | Drexel Endosulfan 3EC | Endosulfan.
HI030001 | Thionex 50W | Endosulfan.
HI030002 | Thionex 3EC | Endosulfan.
HI070006 | Thionex 3EC | Endosulfan.
ID030002 | Thionex 3EC | Endosulfan.
ID030004 | Thionex 3EC | Endosulfan.
ID980003 | Drexel Endosulfan 3EC | Endosulfan.
NC080001 | Thionex 3EC | Endosulfan.
NV030001 | Thionex 3EC | Endosulfan.
OR030007 | Thionex 3EC | Endosulfan.
OR030010 | Thionex 3EC | Endosulfan.
OR030012 | Thionex 50W | Endosulfan.
OR030013 | Thionex 3EC | Endosulfan.
OR030024 | Thionex 3EC | Endosulfan.
UT030003 | Thionex 3EC | Endosulfan.
WA030013 | Thionex 3EC | Endosulfan.
WA030017 | Thionex 50W | Endosulfan.
WA030018 | Thionex 3EC | Endosulfan.
WA030024 | Thionex 3EC | Endosulfan.
WA030027 | Thionex 3EC | Endosulfan.
WA980012 | Drexel Endosulfan 3EC | Endosulfan.

Table 2 of this unit includes the names and addresses of record, in sequence by EPA company number, for all registrants of the products in Table 1 of this unit.

Table 2—Registrants of Canceled Products
EPA company No. | Company name and address
11678 | Makhteshim Chemical Works, Ltd., 4515 Falls of Neuse Rd., Suite 300, Raleigh, NC 27609.
19713 | Drexel Chemical Company, 1700 Channel Avenue, P.O. Box 13327, Memphis, TN 38113-0327.
61483 | KMG-Bernuth, Inc., 9555 W. Sam Houston Pkwy., South, Suite 600, Houston, TX 77099.
66222 | Makhteshim-Agan of North America, Inc., 4515 Falls of Neuse Rd., Suite 300, Raleigh, NC 27609.

III. Summary of Public Comments Received and Agency Response to Comments

The Agency received three comments on the notice, published on August 18, 2010, that announced receipt of the requests for voluntary cancellation and opened a 30-day public comment period that ended on September 17, 2010. These comments were received from Pesticide Action Network North America (PANNA) and over 3,000 supporters, Defenders of Wildlife and over 50,000 supporters, and a private citizen. All comments support cancellation of all endosulfan pesticide products in the United States. The comments from PANNA, Defenders of Wildlife, and by extension the supporters of those organizations, request that EPA shorten the phase-out schedule for endosulfan, referring in general terms to a concern over continued risks to farmworkers, wildlife and the environment, and indigenous peoples in the Arctic, as well as each organization's assertion that alternatives to endosulfan are available.

The Agency appreciates the comments submitted by the public. Pursuant to the cancellation request made as part of the endosulfan Memorandum of Agreement (MOA) with endosulfan registrants, most currently approved endosulfan crop uses will end in 2 years, including over 30 crop uses plus use on ornamental trees, shrubs, and herbaceous plants. The remaining 12 crop uses will end over the following 4 years. Of these remaining uses, the last four endosulfan uses will end on July 31, 2016.

EPA expects growers currently using endosulfan to successfully transition to lower risk pest control strategies. The endosulfan phase-out schedule helps facilitate this transition by providing growers time to research and adopt lower risk alternatives. Recognizing that endosulfan affords benefits in producing certain individual crops, the phase-out schedule allows a longer phase-out period where EPA determined there are benefits of endosulfan use and/or fewer available alternatives to endosulfan.

With regard to the commenters' concern about farmworker and environmental risks, EPA is requiring new mitigation measures for many crops during the endosulfan phase-out period in addition to mitigation requirements placed on endosulfan labels in previous years. Although these additional mitigation measures are designed to reduce worker risks, restricting and phasing out all uses of endosulfan will also address risks to wildlife and the environment.

Additional mitigation required during the phase-out varies by crop and includes measures such as:

• Canceling aerial use and specifying other application methods.

• Extending Restricted Entry Intervals (REIs).

• Extending Pre-harvest Intervals (PHIs).

• Reducing maximum single and/or seasonal application rates.

Detailed information about the additional mitigation measures is provided in the Appendices to the endosulfan MOA, which can be found at docket number EPA-HQ-OPP-2002-0262-0181 on http://www.regulations.gov.

With regard to the commenters' concern for endosulfan contamination of subsistence foods, the Agency's human health risk assessment has determined that there are no dietary risks of concern resulting from endosulfan use for all populations including indigenous people in the Arctic.

Because of the extensive additional mitigation required for many endosulfan uses for the duration of the phase-out period, in combination with the benefits afforded by and/or limited alternatives for certain uses of endosulfan, the Agency has decided not to alter the phase-out schedule requested by the endosulfan registrants and detailed in the endosulfan MOA.

IV. Cancellation Order

Pursuant to FIFRA section 6(f), EPA hereby approves the requested cancellations of registrations identified in Table 1 of Unit II. and hereby orders that:

• All endosulfan product registrations, identified in Table 1 of Unit II. are canceled for uses listed in List 1 of Unit VI. as of November 10, 2010.

• All endosulfan product registrations, identified in Table 1 of Unit II. are canceled for uses listed in List 2 of Unit VI. as of March 31, 2012.

• All endosulfan product registrations, identified in Table 1 of Unit II. are canceled for uses listed in List 3 of Unit VI. as of March 31, 2013.

• All endosulfan product registrations, identified in Table 1 of Unit II. are canceled for uses listed in List 4 of Unit VI. as of September 1, 2014.

• All endosulfan product registrations, identified in Table 1 of Unit II. are canceled for uses listed in List 5 of Unit VI. as of March 31, 2015.

• All endosulfan product registrations, identified in Table 1 of Unit II. are canceled for uses listed in List 6 of Unit VI. as of March 31, 2016.

EPA further orders that effective July 31, 2016, all section 3 registrations of endosulfan are canceled. The effective date of canceled section 3 registrations will therefore correspond with end use dates established in this order. As a matter of clarification, all FIFRA 24(c) Special Local Need registrations may remain in effect until their respective expiration dates, which will correspond with end use dates established in this order.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products that are currently in the United States and that were packaged, labeled, and released for shipment prior to the effective date of the cancellation action. In any order issued in response to these requests for amendments to terminate uses, the Agency proposes to include the following provisions for the treatment of any existing stocks of the products identified or referenced in Table 1. These provisions are consistent with the requests for use deletions and requests for voluntary cancellations outlined in Unit II. of this notice:

1. For the uses in List 1 of this unit.—i. EPA prohibits the registrants' distribution, sale, and reformulation of products permitting the following uses after December 31, 2010, except sale or distribution of such products for the purposes of proper disposal, or export consistent with section 17 of FIFRA.

ii. EPA prohibits the distribution or sale of products permitting the following uses by persons other than the registrants after May 31, 2011, except sale or distribution of such products for the purposes of proper disposal, or export consistent with section 17 of FIFRA.

iii. EPA prohibits registration and use of those products that show uses listed in List 1 on the label for those same uses after July 31, 2012. The stop use date for the uses listed in List 1 of this unit must be reflected on amended product labeling. Any use of existing stocks must be consistent with the previously approved directions for use on product labeling.

List 1.—Phase-Out Group A

Almond

Apricot

Broccoli

Brussels sprouts

Carrots

Cauliflower

Celery (non-AZ)

Citrus (non-bearing)

Collard greens

Dry beans

Dry peas

Eggplant

Filbert

Kale

Kohlrabi

Macadamia

Mustard greens

Nectarine (CA only)

Plum & prune

Poplars grown for pulp and timber

Strawberry (Annual)

Sweet potato

Tart cherry

Turnip

Walnut

Ornamental trees, shrubs, and herbaceous plants—includes boxelder, dogwood, lilac, Douglas fir (grown for ornamentals nursery stock or Christmas trees; Pacific Northwest only), elms, leatherleaf fern, pines (Austrian, jack, red, scotch, white), shade trees (except birch), shrubs, spruce (New England area only), taxus, orchids, hybrid poplars, Christmas trees Other uses that may appear on section 3 registration labels or on a 24(c) registration and are not listed above or on Lists 2, 3, 4, 5, or 6 of this unit.

2. For the uses in List 2 of this unit.—i. EPA prohibits the registrants' distribution, sale, and reformulation of products permitting the following uses after March 31, 2012, except sale or distribution of such products for the purposes of proper disposal, or export consistent with section 17 of FIFRA.

ii. EPA prohibits the distribution or sale of products permitting the following uses by persons other than the registrants after May 31, 2012, except sale or distribution of such products for the purposes of proper disposal, or export consistent with section 17 of FIFRA.

iii. EPA prohibits registration and use of those products that show uses listed in List 2 on the label for those same uses after July 31, 2012. The stop use date for the uses listed in List 2 of this unit must be reflected on amended product labeling. Any use of existing stocks must be consistent with the previously approved directions for use on product labeling.

List 2.—Phase-Out Group B

Cabbage

Celery (AZ only)

Cotton

Cucumbers

Lettuce

Stone fruits not listed in List 1 of this unit, including nectarine (non-CA), peaches, and sweet cherry

Summer melons (cantaloupe, honeydew, watermelon)

Summer squash

Tobacco

3. For the uses in List 3 of this unit.—i. EPA prohibits the registrants' distribution, sale, and reformulation of products permitting the following uses after March 31, 2013, except sale or distribution of such products for the purposes of proper disposal, or export consistent with section 17 of FIFRA.

ii. EPA prohibits the distribution or sale of products permitting the following uses by persons other than the registrants after May 31, 2013, except sale or distribution of such products for the purposes of proper disposal, or export consistent with section 17 of FIFRA.

iii. EPA prohibits registration and use of those products that show uses listed in List 3 on the label for those same uses after July 31, 2013. The stop use date for the uses listed in List 3 of this unit must be reflected on amended product labeling. Any use of existing stocks must be consistent with the previously approved directions for use on product labeling.

List 3.—Phase-Out Group C

Pear

4. For the uses in List 4 of this unit.—i. EPA prohibits the registrants' distribution, sale, and reformulation of products permitting the following uses in the state of Florida after September 30, 2014, except sale or distribution of such products for the purposes of proper disposal, or export consistent with section 17 of FIFRA.

ii. EPA prohibits the distribution or sale in the state of Florida of products permitting the following uses by persons other than the registrants after October 31, 2014, except sale or distribution of such products for the purposes of proper disposal, or export consistent with section 17 of FIFRA.

iii. EPA prohibits registration and use of those products that show uses listed in List 4 on the label for those same uses in the state of Florida after December 31, 2014. The stop use date for the uses listed in List 4 of this unit must be reflected on amended product labeling. Any use of existing stocks must be consistent with the previously approved directions for use on product labeling.

List 4.—Phase-Out Group D

All Florida uses of:

Apple

Blueberry

Peppers

Potatoes

Pumpkins

Sweet corn

Tomato

Winter squash

5. For the uses in List 5 of this unit.—i. EPA prohibits the registrants' distribution, sale, and reformulation of products permitting the following uses after March 31, 2015, except sale or distribution of such products for the purposes of proper disposal, or export consistent with section 17 of FIFRA.

ii. EPA prohibits the distribution or sale of products permitting the following uses by persons other than the registrants after May 31, 2015, except sale or distribution of such products for the purposes of proper disposal, or export consistent with section 17 of FIFRA.

iii. EPA prohibits registration and use of those products that show uses listed in List 5 on the label for those same uses after July 31, 2015. The stop use date for the uses listed in List 5 of this unit must be reflected on amended product labeling. Any use of existing stocks must be consistent with the previously approved directions for use on product labeling.

List 5.—Phase-Out Group E

Apple

Blueberry

Peppers

Potatoes

Pumpkins

Sweet corn

Tomato

Winter squash

6. For the uses in List 6 of this unit.—i. EPA prohibits the registrants' distribution, sale, and reformulation of products permitting the following uses after March 31, 2016, except sale or distribution of such products for the purposes of proper disposal, or export consistent with section 17 of FIFRA.

ii. EPA prohibits the distribution or sale of products permitting the following uses by persons other than the registrants after May 31, 2016, except sale or distribution of such products for the purposes of proper disposal, or export consistent with section 17 of FIFRA.

iii. EPA prohibits registration and use of those products that show uses listed in List 6 on the label for those same uses after July 31, 2016. The stop use date for the uses listed in List 6 of this unit must be reflected on amended product labeling. Any use of existing stocks must be consistent with the previously approved directions for use on product labeling.

List 6.—Phase-Out Group F

Livestock ear tags

Pineapple

Strawberry (perennial/biennial)

Vegetable crops for seed (alfalfa, broccoli, Brussels sprouts, cabbage, cauliflower, Chinese cabbage, collard greens, kale, kohlrabi, mustard greens, radish, rutabaga, turnip)

List of Subjects

Environmental protection, Pesticides and pests.

Dated: October 28, 2010.
Richard P. Keigwin, Jr.,
Director, Pesticide Re-evaluation Division, Office of Pesticide Programs.

[FR Doc. 2010-28138 Filed 11-9-10; 8:45 am]

BILLING CODE 6560-50-P